DEPARTMENT OF JUSTICE

Antitrust Division

Notice Pursuant to the National Cooperative Research and Production Act of 1993—Optical Switch Venture

Notice is hereby given that, on October 16, 2003, pursuant to section 6(a) of the National Cooperative Research and Production Act of 1993, 15 U.S.C. 4301 et seq. (“the Act”), Agiltron Incorporated has filed written notifications simultaneously with the Attorney General and the Federal Trade Commission disclosing (1) the identities of the parties and (2) the nature and objectives of the venture. The notifications were filed for the purpose invoking the Act's provisions limiting the recovery of antitrust plaintiffs to actual damages under specified circumstances. Pursuant to section 6(a) of the Act, the identities of the parties are Agiltron Incorporated, Wilmington, MA, and AC Photonics Incorporated, Santa Clara, CA. The nature and objectives of the venture are to develop and demonstrate a new type of optical switch based on an optical MEMS platform.

Dorothy B. Fountain,
Deputy Director of Operations, Antitrust Division.

[FR Doc. 03-30734 Filed 12-11-03; 8:45 am]

BILLING CODE 4410-11-M